DEPARTMENT OF HEALTH AND HUMAN SERVICES

National Institutes of Health

Center for Scientific Review; Amended Notice of Meeting

Notice is hereby given of a change in the meeting of the Center for Scientific Review Special Emphasis Panel, April 22, 2009, 11 a.m. to April 22, 2009, 1 p.m., National Institutes of Health, 6701 Rockledge Drive, Bethesda, MD 20892 which was published in the Federal Register on March 16, 2009, 74 FR 11120-11121.

The meeting will be held May 12, 2009. The meeting time and location remain the same. The meeting is closed to the public.

Dated: March 24, 2009.
Jennifer Spaeth,
Director, Office of Federal Advisory Committee Policy.

[FR Doc. E9-7198 Filed 4-1-09; 8:45 am]

BILLING CODE 4140-01-M